DEPARTMENT OF ENERGY

Federal Energy Regulatory Commission

[Docket No. RP01-44-001]

Iroquois Gas Transmission System, L.P.; Notice of Compliance Filing

December 14, 2000.

Take notice that on December 11, 2000, Iroquois Gas Transmission System, L.P. (Iroquois) tendered for filing as part of its FERC Gas Tariff, First Revised Volume No. 1, the following revised tariff sheets, with an effective date of November 1, 2000:

Second Revised Sheet No. 66

First Revised Sheet No. 66A

Iroquois states that it is making this filing to revise its tariff to comply with the order issued by the Commission on November 9, 2000 entitled Order on Filing to Establish Imbalance Netting and Trading Pursuant to Order Nos. 587-G and 587-L. A Request for Rehearing on the captioned proceeding is being made contemporaneously with this filing.

Iroquois states that copies of its filing have been mailed to all firm customers, interruptible customers, state regulatory commissions and other interested parties.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http:\\www.ferc.fed.us/efi/doorbell.htm.

David P. Boergers,
Secretary.

[FR Doc. 00-32353 Filed 12-19-00; 8:45 am]

BILLING CODE 6717-01-M